DEPARTMENT OF COMMERCE

Bureau of Industry and Security

15 CFR Parts 742 and 774

[Docket No. 030806193-3193-01]

RIN 0694-AC88

Revisions and Clarifications to the Export Administration Regulations—Chemical and Biological Weapons Controls: Australia Group; Chemical Weapons Convention; Correction

AGENCY: Bureau of Industry and Security, Commerce.

ACTION: Final rule; correction.

SUMMARY: On Tuesday, June 10, 2003, the Bureau of Industry and Security (BIS) published a final rule that amended the Export Administration Regulations (EAR) to implement the understandings reached at the June 2002 plenary meeting of the Australia Group (AG). The June 10, 2003, final rule contained errors in the List of Items Controlled for Export Control Classification Numbers (ECCNs) 2E001 and 2E002 on the Commerce Control List (CCL), as well as an error in the licensing policy provisions of the EAR that apply to items identified on the AG lists. This document corrects those errors.

DATES: This correction is effective December 1, 2003.

FOR FURTHER INFORMATION CONTACT: James Seevaratnam, Office of Nonproliferation Controls and Treaty Compliance, Bureau of Industry and Security, Telephone: (202) 482-3343.

SUPPLEMENTARY INFORMATION: This document corrects the errors contained in the final rule that was published by the Bureau of Industry and Security (BIS) on June 10, 2003 (68 FR 34526). The June 10, 2003, final rule amended the Export Administration Regulations (EAR) (15 CFR Parts 730-799) to implement the understandings reached at the June 2002 plenary meeting of the Australia Group (AG).

Specifically, this document corrects a minor typographical error contained in § 742.2(b)(1) of the EAR, which describes the licensing policies that apply to items identified on the AG lists. In the first sentence of § 742.2(b)(1), the phrase “use of chemical of biological weapons” is corrected to read “use of chemical or biological weapons.”

This document also corrects the errors contained in Export Control Classification Numbers (ECCNs) 2E001 and 2E002 on the Commerce Control List (CCL) (Supplement No. 1 to Part 774 of the EAR). In the heading of ECCN 2E001, the first parenthetical phrase “(except 2A991, 2A993, or 2A994)” is corrected to read “(except 2A983, 2A991, or 2A994)” and the third parenthetical phrase “(except 2D991, 2D992, or 2D994)” is corrected to read “(except 2D983, 2D991, 2D992, or 2D994)”. In the heading of ECCN 2E002, the first parenthetical phrase “(except 2A991, 2A993, or 2A994)” is corrected to read “(except 2A983, 2A991, or 2A994)”. The corrections to the headings of ECCNs 2E001 and 2E002 are being made, because the June 10, 2003, final rule inadvertently referenced one ECCN (i.e., ECCN 2A993) that had been removed from the CCL by a previous rule and did not reference two other ECCNs (i.e., ECCNs 2A983 and 2D983) that were added to the CCL by that same rule. The rule that removed ECCN 2A993 and added new ECCNs 2A983 and 2D983 amended the EAR to expand controls on explosives detection equipment and related software and technology and was published by BIS on April 3, 2003 (68 FR 16208).

In addition, this document corrects errors made by the June 10, 2003, final rule in the missile technology (MT) controls paragraphs under the License Requirements sections of ECCNs 2E001 and 2E002. In the MT controls paragraph for ECCN 2E001, the phrase “2B117, 2D001 or 2D101 for MT reasons” is corrected to read “2B117, 2B119 to 2B122, 2D001, or 2D101 for MT reasons”. In the MT controls paragraph for ECCN 2E002, the phrase “2B116 or 2B117 for MT reasons” is corrected to read “2B116, 2B117, or 2B119 to 2B122 for MT reasons”. The corrections to these MT controls paragraphs are being made, because the June 10, 2003, final rule inadvertently omitted references to four new ECCNs (i.e., ECCNs 2B119, 2B120, 2B121, and 2B122) that were added to the CCL by a previous rule. The rule that added these four new ECCNs to the CCL amended the EAR to conform the CCL with the reformatted Missile Technology Control Regime (MTCR) Annex of October 14, 1999, and was published by BIS on April 2, 2003 (68 FR 16144).

Rulemaking Requirements

1. This rule has been determined to be not significant for purposes of Executive Order 12866.

2. Notwithstanding any other provision of law, no person is required to respond to, nor shall any person be subject to a penalty for failure to comply with, a collection of information subject to the requirements of the Paperwork Reduction Act, unless that collection of information displays a currently valid OMB Control Number. This rule contains collections of information subject to the requirements of the Paperwork Reduction Act of 1980 (44 U.S.C. 3501 et seq.). These collections have been approved by the Office of Management and Budget under Control Numbers 0694-0088 and 0694-0117.

3. This rule does not contain policies with Federalism implications as that term is defined in Executive Order 13132.

4. The provisions of the Administrative Procedure Act (5 U.S.C. 553) requiring notice of proposed rulemaking, the opportunity for public participation, and a delay in effective date, are inapplicable because this regulation involves a military and foreign affairs function of the United States (Sec. 5 U.S.C. 553(a)(1)). Further, no other law requires that a notice of proposed rulemaking and an opportunity for public comment be given for this final rule. Because a notice of proposed rulemaking and an opportunity for public comment are not required to be given for this rule under 5 U.S.C. 553 or by any other law, the analytical requirements of the Regulatory Flexibility Act (5 U.S.C. 601 et seq.) are not applicable.

Therefore, this regulation is issued in final form. Although there is no formal comment period, public comments on this regulation are welcome on a continuing basis. Comments should be submitted to Willard Fisher, Regulatory Policy Division, Bureau of Industry and Security, U.S. Department of Commerce, Room 2705, 14th Street and Pennsylvania Avenue, NW., Washington, DC 20230.

Accordingly, in the final rule, FR Doc. 03-14602, published at 68 FR 34526, make the following corrections:

PART 742—[CORRECTED]

§ 742.2 [Corrected]

1. On page 34529, first column, in § 742.2(b)(1), line 9, at the end of the first sentence, the phrase “use of chemical of biological weapons” is corrected to read “use of chemical or biological weapons”.

PART 774—[CORRECTED]

Supplement No. 1 to Part 774—[Corrected]

2. On page 34532, third column, in ECCN 2E001, the ECCN heading and the MT controls paragraph in the chart of the License Requirements section of the ECCN are corrected to read as follows:

2E001 “Technology according to the General Technology Note for the “development” of equipment or “software” controlled by 2A (except 2A983, 2A991, or 2A994), 2B (except 2B991, 2B993, 2B996 2B997 or 2B998), or 2D (except 2D983, 2D991, 2D992, or 2D994).

License Requirements

* * * * *

Control(s) | Country Chart
* * * * *
MT applies to “technology” for items controlled by 2B004, 2B009, 2B018, 2B104, 2B105, 2B109, 2B116, 2B117, 2B119 to 2B122, 2D001 or 2D101 for MT reasons | MT Column 1
* * * * *

3. On page 34533, first column, in ECCN 2E002, the ECCN heading and the MT controls paragraph in the chart of the License Requirements section of the ECCN are corrected to read as follows:

2E002 “Technology” according to the General Technology Note for the “production” of equipment controlled by 2A (except 2A983, 2A991, or 2A994) or 2B (except 2B991, 2B993, 2B996, 2B997, or 2B998).

License Requirements

* * * * *

Control(s) | Country Chart
* * * * *
MT applies to “technology” for equipment controlled by 2B004, 2B009, 2B018, 2B104, 2B105, 2B109, 2B116, 2B117, or 2B119 to 2B122 for MT reasons | MT Column 1
* * * * *

Dated: September 4, 2003.
Eileen M. Albanese,
Director, Office of Exporter Services, Export Administration.

[FR Doc. 03-29835 Filed 11-28-03; 8:45 am]

BILLING CODE 3510-33-P